UNITED STATES INSTITUTE OF PEACE

Announcement of the Spring Unsolicited Grant Competition Grant Program

AGENCY: United States Institute of Peace.

ACTION: Notice.

SUMMARY: The Agency announces its Upcoming Unsolicited Grant Program, which offers support for research, education and training, and the dissemination of information on international peace and conflict resolution. The unsolicited competition is open to any project that falls within the Institute's broad mandate of international conflict resolution.

Deadline (Receipt of Application Material): March 1, 2003.

Notification of Awards: September 30, 2003.

Applications Material: Available upon request.

ADDRESSES: For more information and an application package: United States Institute of Peace, Grant Program, 1200 17th Street, NW., Suite 200, Washington, DC 20036-3011. (202) 429-3842 (phone). (202) 833-1018 (fax). (202) 457-1719 (TTY). Email: grant_program@usip.org.

Application material available on-line now at http://www.usip.org/grants.html.

FOR FURTHER INFORMATION CONTACT: The Grant Program, phone (202) 429-3842. E-mail: grant_program@usip,org.

Dated: November 12, 2002.
Bernice J. Carney,
Director, Office of Adminsitration.

[FR Doc. 02-29112 Filed 11-15-02; 8:45 am]

BILLING CODE 6820-AR-M